DEPARTMENT OF THE TREASURY

Internal Revenue Service

26 CFR Part 1

[REG-209020-86]

RIN 1545-AC09

Foreign Tax Credit: Notification of Foreign Tax Redeterminations; Correction

AGENCY: Internal Revenue Service (IRS), Treasury.

ACTION: Correction to notice of proposed rulemaking by cross-reference to temporary regulations.

SUMMARY: This document contains corrections to a notice of proposed rulemaking by cross-reference to temporary regulations (REG-209020-86) that was published in the Federal Register on Wednesday, November 7, 2007 (72 FR 62805) relating to a taxpayer's obligation under section 905(c) of the Internal Revenue Code to notify IRS of a foreign tax redetermination and also relating to the civil penalty under section 6689 for failure to notify the IRS of a foreign tax redetermination as required under section 905(c).

FOR FURTHER INFORMATION CONTACT: Teresa Burridge Hughes at (202) 622-3850 (not a toll-free number).

SUPPLEMENTARY INFORMATION:

Background

The correction notice that is the subject of this document is under section 905(c) of the Internal Revenue Code.

Need for Correction

As published, the notice of proposed rulemaking by cross-reference to temporary regulations (REG-209020-86) contain errors that may prove to be misleading and are in need of clarification.

Correction of Publication

Accordingly, the publication of the notice of proposed rulemaking by cross-reference to the temporary regulations (REG-209020-86), which was the subject of FR Doc. E7-21727, is corrected as follows:

1. On page 62806, column 1, in the preamble, under the caption “ADDRESSES:”, line 8, the language “CC:PA:LPD:PR (REG-209020-90),” is corrected to read “CC:PA:LPD:PR (REG-209020-86),”.

§ 1.905-5 [Corrected]

2. On page 62807, column 2, § 1.905-5, the word (temporary) is removed from the end of the section title.

LaNita Van Dyke,
Chief, Publications and Regulations Branch, Legal Processing Division, Associate Chief Counsel (Procedure and Administration).

[FR Doc. E7-24673 Filed 12-18-07; 8:45 am]

BILLING CODE 4830-01-P